DEPARTMENT OF COMMERCE

International Trade Administration

[A-201-830]

Carbon and Certain Alloy Steel Wire Rod From Mexico: Notice of Correction to Final Results of Antidumping Duty Administrative Review; 2017-2018

AGENCY: Enforcement and Compliance, International Trade Administration, Department of Commerce.

SUMMARY: The Department of Commerce (Commerce) is correcting the final results of the administrative review of the antidumping duty order on carbon and certain alloy steel wire rod from Mexico.

DATES: Applicable July 1, 2020.

FOR FURTHER INFORMATION CONTACT: Jolanta Lawska, AD/CVD Operations, Office III, Enforcement and Compliance, International Trade Administration, U.S. Department of Commerce, 1401 Constitution Avenue NW, Washington, DC 20230; telephone: (202) 482-8362.

SUPPLEMENTARY INFORMATION: On July 1, 2020, Commerce published the final results of the 2017-2018 antidumping duty administrative review of carbon and certain alloy steel wire rod from Mexico.¹ In that notice, Commerce made a typographical error with respect to the spelling of the company name of Talleres y Aceros S.A. de C.V., a non-selected respondent in this review. Specifically, Commerce misspelled the company name as “Talleres y Aceros de C.V” in the margin rate table of the Final Results. The correct spelling of the company name is “Talleres y Aceros S.A. de C.V.” As a result, we hereby correct the Final Results.

¹ See Carbon and Certain Alloy Steel Wire Rod from Mexico: Final Results of Antidumping Duty Administrative Review; 2017-2018, 85 FR 39527 (July 1, 2020) (Final Results).

Notification to Interested Parties

This correction to the Final Results is issued and published in accordance with sections 751(a) and 777(i)(1) of the Tariff Act of 1930, as amended.

Dated: July 16, 2020.
Jeffrey I. Kessler,
Assistant Secretary for Enforcement and Compliance.

[FR Doc. 2020-15854 Filed 7-21-20; 8:45 am]

BILLING CODE 3510-DS-P